DEPARTMENT OF STATE

[Public Notice: 12415]

Notice of Department of State Sanctions Actions Pursuant to the Executive Order Regarding Reimposing Certain Sanctions With Respect to Iran

SUMMARY: The Department of State is publishing the names of one or more persons that have been placed on the Department of the Treasury's List of Specially Designated Nationals and Blocked Persons (SDN List) administered by the Office of Foreign Asset Control (OFAC) based on the Department of State's determination, in consultation with other departments, as appropriate, that one or more applicable legal criteria of the Executive Order regarding reimposing certain sanctions with respect to Iran were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On March 2, 2023, the Department of State, in consultation with other departments, as appropriate, determined that the property and interests in property subject to U.S. jurisdiction of the following persons are blocked under the relevant sanctions authority listed below.

Entities

2. SWEDISH MANAGEMENT CO SA, Location: Office Number 82, Floor Number 8, Ajman Chamber of Commerce Building, Ajman, United Arab Emirates; Alt. Location: Amro Street, PO Box 25701, Dubai, United Arab Emirates, IMO Number: 5186278 (Entity) [IRAN-EO13846].

Designated pursuant to section 3(a)(iii) of Executive Order 13846 of August 6, 2018, “Reimposing Certain Sanctions With Respect to Iran” (E.O. 13846).

3. SHIRAZ PETROCHEMICAL COMPANY (SPC), (Shiraz Petrochemical Co.), (Shiraz Petrochemical Complex), (Shiraz Petrochemical), Location: 6 Km Of Pol-E-Khan Road-Dorodzan Dam, PO Box 415 Shiraz; Fars, Iran, 73491-31736; Alt. Address: No. 5 Farivar Alley, Ghaem Magham Street, Tehran, Iran, Registration Number: 10530010025 (Iran), Tax Identification Number: 411168731673 (Entity) [IRAN-EO13846].

Designated pursuant to section 3(a)(iii) of Executive Order 13846 of August 6, 2018, “Reimposing Certain Sanctions With Respect to Iran” (E.O. 13846).

4. BUSHEHR PETROCHEMICAL COMPANY (BUPC), Location: No. 7, 3rd and 4th Floor, Sattarkhan St., Habib Elah St., Metolian Blvd., Tehran, 1455693916, Iran; Alt. Location: Pars Energy Special Economic Zone, Petrochemical Complexes Phase II, Asalouye, Bushehr 7511811374, Iran; Alt. Location: Asli Neighborhood, Asli Road Street, Nakhl Taqi's 15 Kilometer Road, Number 0, Ground Floor, Nakhl Taqi, Bushehr, 7511811374, Iran, Registration Number: 10101920878 (Iran) (Entity) [IRAN-EO13846].

Designated pursuant to section 3(a)(iii) of Executive Order 13846 of August 6, 2018, “Reimposing Certain Sanctions With Respect to Iran” (E.O. 13846).

5. SHANGHAI XUANRUN SHIPPING COMPANY LIMITED, Location: Haiyi Villa, 42, Lane 97, Songlin Lu, Pudong Xinqu, Shanghai, 200120, China; Alt. Location: Room 413, Block A, International Trade Hotel, No.188, Yesheng Road, Yangshan Bonded Zone, Shanghai, 200122, China, IMO Number: 5532651, United Social Credit Code: 913100005515644191 (China) (Entity) [IRAN-EO13846].

Designated pursuant to section 3(a)(iii) of Executive Order 13846 of August 6, 2018, “Reimposing Certain Sanctions With Respect to Iran” (E.O. 13846).

6. GOLDEN LOTUS OIL GAS AND REAL ESTATE JOINT STOCK COMPANY (Golden Lotus Oil Gas & Real), Location: 67 Pho Duc Chinh, Truc Bach Ward, Ba Dinh District, Hanoi City, Vietnam, Registration Number: 0108209906 (Vietnam), IMO Number: 6144804 (Entity) [IRAN-EO13846].

Designated pursuant to section 3(a)(ii) of Executive Order 13846 of August 6, 2018, “Reimposing Certain Sanctions With Respect to Iran,” (E.O. 13846) for having knowingly engaged in a significant transaction for the purchase, acquisition, sale, transport, or marketing of petroleum or petroleum products from Iran.

Vessels

1. DOLPHIN (9052331) LPG Tanker, São Tomé and Príncipe; MMSI: 668116145 (vessel) [IRAN-EO13846] (Linked To: Golden Lotus Oil Gas and Real Estate Joint Stock Company).

Identified as property in which Golden Lotus Oil Gas and Real Estate Joint Stock Company, a person designated pursuant to E.O. 13846, has an interest.

2. LAUREN (9249685) LPG Tanker, Tuvalu, MMSI: 572330220 (vessel) [IRAN-EO13846] (Linked To: Golden Lotus Oil Gas and Real Estate Joint Stock Company).

Identified as property in which Golden Lotus Oil Gas and Real Estate Joint Stock Company, a person designated pursuant to E.O. 13846, has an interest.

3. GOLDEN BRIDGE (9218301) Bulk Carrier, Panama, MMSI: 357648000 (vessel) [IRAN-EO13846] (Linked To: Golden Lotus Oil Gas and Real Estate Joint Stock Company).

Identified as property in which Golden Lotus Oil Gas and Real Estate Joint Stock Company, a person designated pursuant to E.O. 13846, has an interest.

4. GOLDEN PHOENIX (9224790) Bulk Carrier, Panama, MMSI: 374811000 (vessel) [IRAN-EO13846] (Linked To: Golden Lotus Oil Gas and Real Estate Joint Stock Company).

Identified as property in which Golden Lotus Oil Gas and Real Estate Joint Stock Company, a person designated pursuant to E.O. 13846, has an interest.

5. AMIAS (9342786) Chemical and Oil Products Tanker, Vietnam, MMSI: 574004850 (vessel) [IRAN-EO13846] (Linked To: Golden Lotus Oil Gas and Real Estate Joint Stock Company).

Identified as property in which Golden Lotus Oil Gas and Real Estate Joint Stock Company, a person designated pursuant to E.O. 13846, has an interest.

6. JAMAICA (9230098) Cargo Oil Tanker, Vietnam, MMSI: 574004860 (vessel) [IRAN-EO13846] (Linked To: Golden Lotus Oil Gas and Real Estate Joint Stock Company).

Identified as property in which Golden Lotus Oil Gas and Real Estate Joint Stock Company, a person designated pursuant to E.O. 13846, has an interest.

7. GOLDEN LIGHT 09 (9445057) Cargo Bulk Carrier, Vietnam, MMSI: 574004770 (vessel) [IRAN-EO13846] (Linked To: Golden Lotus Oil Gas and Real Estate Joint Stock Company).

Identified as property in which Golden Lotus Oil Gas and Real Estate Joint Stock Company, a person designated pursuant to E.O. 13846, has an interest.

8. GAS CATHAR (9250505) LPG Tanker, Panama, MMSI: 352448000 (vessel) [IRAN-EO13846] (Linked To: Golden Lotus Oil Gas and Real Estate Joint Stock Company).

Identified as property in which Golden Lotus Oil Gas and Real Estate Joint Stock Company, a person designated pursuant to E.O. 13846, has an interest.

9. RISING EAGLE (9073672) Bulk Carrier, St. Vincent and the Grenadines, MMSI: 376369000 (vessel) [IRAN-EO13846] (Linked To: Swedish Management CO SA).

Identified as property in which Swedish Management CO SA, a person designated pursuant to E.O. 13846, has an interest.

10. RISING FALCON (9105396) Bulk Carrier, St. Vincent and the Grenadines, MMSI: 375821000 (vessel) [IRAN-EO13846] (Linked To: Swedish Management CO SA).

Identified as property in which Swedish Management CO SA, a person designated pursuant to E.O. 13846, has an interest.

11. RISING HARRIER (9122291) Bulk Carrier, St. Vincent and the Grenadines, MMSI: 375726000 (vessel) [IRAN-EO13846] (Linked To: Swedish Management CO SA).

Identified as property in which Swedish Management CO SA, a person designated pursuant to E.O. 13846, has an interest.

12. CATTLE FORCE (9175901) Livestock Carrier, Togo, MMSI: 671028100 (vessel) [IRAN-EO13846] (Linked To: Swedish Management CO SA).

Identified as property in which Swedish Management CO SA, a person designated pursuant to E.O. 13846, has an interest.

13. HERCULES (9558517) Offshore Tug/Supply Ship, Togo, MMSI: 671187100 (vessel) [IRAN-EO13846] (Linked To: Swedish Management CO SA).

Identified as property in which Swedish Management CO SA, a person designated pursuant to E.O. 13846, has an interest.

14. GLADIATOR (7621011) Tug, Togo, MMSI: 671744000 (vessel) [IRAN-EO13846] (Linked To: Swedish Management CO SA).

Identified as property in which Swedish Management CO SA, a person designated pursuant to E.O. 13846, has an interest.

15. YONG XIANG 29 (8744107) Chemical Products Tanker, PRC, MMSI: 412437840 (vessel) [IRAN-EO13846] (Linked To: Shanghai Xuanrun Shipping Company Limited).

Identified as property in which Shanghai Xuanrun Shipping Company Limited, a person designated pursuant to E.O. 13846, has an interest.

16. FOREVER RICH (9203928) Chemical and Oil Products Tanker, Hong Kong, MMSI: 477232400 (vessel) [IRAN-EO13846] (Linked To: Shanghai Xuanrun Shipping Company Limited).

Identified as property in which Shanghai Xuanrun Shipping Company Limited, a person designated pursuant to E.O. 13846, has an interest.

17. YONG XIN (9203930) Chemical and Oil Products Tanker, Hong Kong, MMSI: 477237100 (vessel) [IRAN-EO13846] (Linked To: Shanghai Xuanrun Shipping Company Limited).

Identified as property in which Shanghai Xuanrun Shipping Company Limited, a person designated pursuant to E.O. 13846, has an interest.

18. XUAN NING (9349095) Chemical and Oil Products Tanker, PRC, MMSI: 413376120 (vessel) [IRAN-EO13846] (Linked To: Shanghai Xuanrun Shipping Company Limited).

Identified as property in which Shanghai Xuanrun Shipping Company Limited, a person designated pursuant to E.O. 13846, has an interest.

19. LIANG SHENG (9526693) Chemical and Oil Products Tanker, Hong Kong, MMSI: 477978800 (vessel) [IRAN-EO13846] (Linked To: Shanghai Xuanrun Shipping Company Limited).

Identified as property in which Shanghai Xuanrun Shipping Company Limited, a person designated pursuant to E.O. 13846, has an interest.

20. FULL STAR (9773301) Chemical and Oil Products Tanker, Hong Kong, MMSI: 477948300 (vessel) [IRAN-EO13846] (Linked To: Shanghai Xuanrun Shipping Company Limited).

Identified as property in which Shanghai Xuanrun Shipping Company Limited, a person designated pursuant to E.O. 13846, has an interest.

Amy E. Holman,
Principal Deputy Assistant Secretary, Bureau of Economic and Business Affairs, Department of State.

[FR Doc. 2024-11321 Filed 5-22-24; 8:45 am]

BILLING CODE 4710-07-P